DEPARTMENT OF HEALTH AND HUMAN SERVICES

Opportunity To Collaborate on National Youth Sports Initiative To Increase Youth Sports Participation; Correction

AGENCY: Department of Health and Human Services, Office of the Secretary, Office of the Assistant Secretary for Health, President's Council on Sports, Fitness, and Nutrition.

ACTION: Notice of collaboration; correction.

SUMMARY: The Department of Health and Human Services published a document in the Federal Register of June 3, 2019, concerning the opportunity to collaborate on National Youth Sports Initiative to increase youth sports participation with the President's Council on Sports, Fitness & Nutrition (PCSFN). The document contained an incorrect date.

FOR FURTHER INFORMATION CONTACT: Ms. Holli M. Richmond, Executive Director, Office of the President's Council on Sports, Fitness, and Nutrition, Tower Building, 1101 Wootton Parkway, Suite 560, Rockville, MD 20852, (240) 276-9567.

Correction

In the Federal Register of June 3, 2019, in FR Vol. 84 No. 106, on page 25548, in the third column, correct the DATES captions to read:

DATES: To receive consideration, a request to participate as a collaborating organization must be received via email or postmarked mail at the addresses listed below, by 5:00 p.m. EST on Thursday, June 20, 2019.

Dated: June 5, 2019.
Holli M. Richmond,
Executive Director, Office of the President's Council on Sports, Fitness, and Nutrition, U.S. Department of Health and Human Services.

[FR Doc. 2019-12251 Filed 6-10-19; 8:45 am]

BILLING CODE 4150-36-P